DEPARTMENT OF TRANSPORTATION

Federal Aviation Administration

14 CFR Part 39

[Docket No. FAA-2010-0377; Directorate Identifier 2009-NM-246-AD; Amendment 39-16599; AD 2011-03-15]

RIN 2120-AA64

Airworthiness Directives; The Boeing Company Model 767 Airplanes

AGENCY: Federal Aviation Administration (FAA), DOT.

ACTION: Final rule.

SUMMARY: We are adopting a new airworthiness directive (AD) for certain Model 767 airplanes. This AD requires doing a detailed inspection for correct main track downstop assembly, thread protrusion, and damaged and missing parts of the main track downstop assemblies of the outboard slats, and related investigative and corrective actions if necessary. This AD also requires doing a detailed inspection for foreign objects, debris and damage to the wall of the track housing of the outboard slats, and corrective actions if necessary. This AD results from reports of broken bolts in the outboard slat main track downstop assembly. We are issuing this AD to detect and correct incorrectly installed main track downstop assemblies, which can allow the main track downstop hardware to fall into the track housing and cause a puncture in the track housing when the slat is retracted. This condition, if not corrected, could result in a fuel leak and an increased risk of fire.

DATES: This AD is effective March 22, 2011.

The Director of the Federal Register approved the incorporation by reference of a certain publication listed in the AD as of March 22, 2011.

ADDRESSES: For service information identified in this AD, contact Boeing Commercial Airplanes, Attention: Data & Services Management, P.O. Box 3707, MC 2H-65, Seattle, Washington 98124-2207; telephone 206-544-5000, extension 1; fax 206-766-5680; e-mail me.boecom@boeing.com; Internet https://www.myboeingfleet.com.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Berhane Alazar, Aerospace Engineer, Airframe Branch, ANM-120S, FAA, Seattle Aircraft Certification Office (ACO), 1601 Lind Avenue, SW., Renton, Washington 98057-3356; telephone (425) 917-6577; fax (425) 917-6590.

SUPPLEMENTARY INFORMATION:

Discussion

We issued a notice of proposed rulemaking (NPRM) to amend 14 CFR part 39 to include an airworthiness directive (AD) that would apply to certain Model 767 airplanes. That NPRM was published in the Federal Register on April 8, 2010 (75 FR 17887). That NPRM proposed to require doing a detailed inspection for correct main track downstop assembly, thread protrusion, and damaged and missing parts of the main track downstop assemblies of the outboard slats, and related investigative and corrective actions if necessary. That proposed AD also proposed to require doing a detailed inspection for foreign objects debris and damage to the wall of the track housing of the outboard slats, and corrective actions if necessary.

Relevant Service Information

The NPRM referred to Boeing Special Attention Service Bulletin 767-57-0118, dated October 8, 2009. We reviewed Boeing Special Attention Service Bulletin 767-57-0118, Revision 1, dated October 21, 2010. This service bulletin revision adds an option to inspect either the bolt or nut for looseness by applying torque to the main track downstop assembly nut or the bolt head, corrects a reference, and removes the references to slat numbers 6 and 7 in Appendix A. This service bulletin revision does not add any additional work for the affected airplanes.

Comments

We gave the public the opportunity to participate in developing this AD. We considered the comments received from the commenters.

Request To Add Boeing Document D-590 as Source of Additional Guidance

American Airlines (AAL) requested that we specify that Boeing Document D-590 may be used as a source for acceptable fastener and material substitution in a note in the General Information section of the Accomplishment Instructions of Boeing Special Attention Service Bulletin 767-57-0118, dated October 8, 2009.

From this request, we infer that AAL asked that we include Boeing Document D-590 as a source for the acceptable fastener and material substitution in the NPRM. We disagree that adding this document to the requirements of the AD is necessary. Boeing Document D-590 is the collection of many Boeing standards and specifications. We have determined that this document is too broad for this AD. We have not changed the final rule in regard to this issue.

Request To Clarify Fitting Location

AAL requested that we clarify the fitting location. AAL stated that it believes the 114T2520 fitting located at outboard slat station (OSS) 426.997 should be removed to facilitate proper torque checking of the bolts. AAL stated that Boeing confirmed that it is acceptable to remove the stop fitting(s) as required for access and that it is safe to remove the stop fitting(s) without rigging the slats. AAL also stated that Boeing does not plan to revise Boeing Special Attention Service Bulletin 767-57-0118, dated October 8, 2009, to include removal or installation procedures for the stop fitting(s) for access purposes. AAL reported that Boeing does plan to add a note in the next revision of Boeing Special Attention Service Bulletin 767-57-0118, dated October 8, 2009, that states “if it is necessary to remove more parts for access, you can remove those parts. You must install all parts removed for access before the airplane is put back in service.” As a result, AAL requested that we revise the NPRM to incorporate a note providing steps to remove the up-stop fitting as required to facilitate the torque check, to reinstall the up-stop fitting in accordance with Boeing Drawing 114T2160, and to torque the nuts using Boeing Airplane Company (BAC) procedure 5009 or an equivalent operator procedure.

We agree that clarification might be necessary. Based on the best data available, the manufacturer provided the procedures necessary to do the required actions. Note 8 in Section A. “General Information” of the Accomplishment Instructions of Boeing Special Attention Service Bulletin 767-57-0118, Revision 1, dated October 21, 2010, states, “If it is necessary to remove more parts for access, you can remove those parts. If you can get access without removing identified parts, it is not necessary to remove all of the identified parts.” The procedures in AD rulemaking actions, however, typically do not include procedures such as the steps required to gain access and close up. We have updated the final rule to refer to the latest issue of the service information.

Request To Revise Requirements for Torque Check

AAL stated that a single torque check could be accomplished rather than the two distinct checks as specified in Steps 1 and 2 of Figures 2 and 5 of Boeing Special Attention Service Bulletin 767-57-0118, dated October 8, 2009. AAL stated that in these figures, the torque check is accomplished by first holding the bolt head and applying force to the nut to verify that it does not turn on the bolt threads. AAL stated that the torque is checked secondly by applying torque to the head and verifying that the bolt does not rotate. AAL stated that applying torque to the nut without holding the head will adequately test the same conditions. AAL stated that if the bolt and nut are loose and if torque is applied to the nut, either the nut will turn on the bolt or the bolt will turn with the nut. AAL stated that if neither turns, then they are tight. AAL asserted that this procedure would eliminate some work steps and simplify the task.

We agree with the reasons provided by the commenter. As stated previously Boeing has released Special Attention Service Bulletin 767-57-0118, Revision 1, dated October 21, 2010, which corrects that information. We have revised the final rule to refer to this service bulletin as the appropriate source of service information.

Request To Change Reference to Airplane Maintenance Manual (AMM)

Continental Airlines (CAL) requested that Boeing Special Attention Service Bulletin 767-57-0118, dated October 8, 2009, be revised to correct the reference to the AMM section to 27-81-34, not 27-81-00.

We agree. As stated previously Boeing has released Special Attention Service Bulletin 767-57-0118, Revision 1, dated October 21, 2010, which corrects that information. We have revised the final rule to refer to this revision as the appropriate source of service information.

Request To Revise Costs of Compliance

United Airlines (United) requested that we revise the Costs of Compliance section of the NPRM. United noted that the FAA estimated 8 work-hours to comply with the proposed requirements of the NPRM, and Boeing Special Attention Service Bulletin 767-57-0118, dated October 8, 2009, estimated 22 work-hours.

We disagree with the request to revise the Costs of Compliance section of this AD. The economic analysis is limited to the cost of actions actually required by the rule. It does not consider the costs of “on condition” actions (e.g., “repair, if necessary”) because, regardless of AD direction, those actions would be required to correct an unsafe condition identified in an airplane and ensure operation of that airplane in an airworthy condition, as required by the Federal Aviation Regulations. We have made no change to this final rule regarding this issue.

Request To Add Damage Reporting Allowance in Paragraph (h) of the NPRM

Boeing requested that we clarify that if damage is found while inspecting the slat track housing, operators should contact the FAA for approval of an alternative method of compliance (AMOC) only when the damage exceeds the allowance contained in Boeing Special Attention Service Bulletin 767-57-0118. Boeing stated that this service bulletin contains damage blend-out allowances (0.015-inch blend-out depth on a 0.063-inch-thick wall) for the slat track housing in Figure 8. Boeing stated that the NPRM does not provide for the existing repair information contained in this service bulletin and requires that all repairs be submitted to the FAA for approval of AMOCs.

We agree with the request for the reasons the commenter provided, and we have revised paragraph (h) of this AD accordingly.

Explanation of Change to This AD

We added a new paragraph (k) to this final rule to provide information on the federal Paperwork Reduction Act. We have reidentified subsequent paragraphs accordingly.

Conclusion

We reviewed the relevant data, considered the comments received, and determined that air safety and the public interest require adopting the AD with the changes described previously. We also determined that these changes will not increase the economic burden on any operator or increase the scope of the AD.

Costs of Compliance

We estimate that this AD affects 361 airplanes of U.S. registry. We also estimate that it will take about 8 work-hours per product to comply with this AD. The average labor rate is $85 per work-hour. Required parts will cost $0 per product. Based on these figures, we estimate the cost of this AD to the U.S. operators to be $245,480, or $680 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979), and

(3) Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2011-03-15 The Boeing Company: Amendment 39-16599. Docket No. FAA-2010-0377; Directorate Identifier 2009-NM-246-AD.

Effective Date

(a) This airworthiness directive (AD) is effective March 22, 2011.

Affected ADs

(b) None.

Applicability

(c) This AD applies to The Boeing Company Model 767-200, -300, -300F, and -400ER series airplanes, certificated in any category, as identified in Boeing Special Attention Service Bulletin 767-57-0118, Revision 1, dated October 21, 2010.

Subject

(d) Air Transport Association (ATA) of America Code 57: Wings.

Unsafe Condition

(e) This AD results from reports of broken bolts in the main track downstop assembly of the outboard slat. The Federal Aviation Administration is issuing this AD to detect and correct incorrectly installed main track downstop assemblies, which can allow the main track downstop hardware to fall into the track housing and cause a puncture in the track housing when the slat is retracted. This condition, if not corrected, could result in a fuel leak and an increased risk of fire.

Compliance

(f) You are responsible for having the actions required by this AD performed within the compliance times specified, unless the actions have already been done.

Inspection

(g) Within 24 months after the effective date of this AD, do the actions specified in paragraphs (g)(1) and (g)(2) of this AD.

(1) Do a detailed inspection for correct assembly, thread protrusion, and damaged and missing parts of the main track downstop assemblies of outboard slats 1 through 5 and slats 8 through 12, and do all applicable related investigative and corrective actions, in accordance with Part 2 of the Accomplishment Instructions of Boeing Special Attention Service Bulletin 767-57-0118, Revision 1, dated October 21, 2010. Do all applicable related investigative and corrective actions before further flight.

(2) Do a detailed inspection for foreign objects debris and damage to the wall of the track housing of the outboard slats 1 through 5 and slats 8 through 12, and do all applicable corrective actions, in accordance with Part 3 of the Accomplishment Instructions of Boeing Special Attention Service Bulletin 767-57-0118, Revision 1, dated October 21, 2010, except as required by paragraph (h) of this AD. Do all applicable corrective actions before further flight.

Exception to the Service Bulletin

(h) If any damage is found during any inspection required by paragraph (g)(2) of this AD, and that damage exceeds the allowable damage contained in Figure 8 of Boeing Special Attention Service Bulletin 767-57-0118, Revision 1, dated October 21, 2010, before further flight, replace the track housing or repair the damage using a method approved in accordance with the procedures specified in paragraph (l) of this AD.

Credit for Actions Accomplished in Accordance With Previous Service Information

(i) Actions accomplished in accordance with Boeing Special Attention Service Bulletin 767-57-0118, dated October 8, 2009, before the effective date of this AD, are acceptable for compliance with the corresponding actions specified in this AD, provided that the provisions of paragraph (h) of this AD are complied with.

Reporting

(j) Submit a report of positive findings of the inspections required by paragraph (g) of this AD to the Manager, Seattle Aircraft Certification Office (ACO), FAA, at the applicable time specified in paragraph (j)(1) or (j)(2) of this AD. The report must include the inspection results, a description of any discrepancies found, the airplane registry, variable or line number, and the number of landings and flight hours on the airplane. The report does not need to include reporting on slats 6 and 7. Under the provisions of the Paperwork Reduction Act (44 U.S.C. 3501 et seq.), the Office of Management and Budget (OMB) has approved the information collection requirements contained in this AD and has assigned OMB Control Number 2120 0056.

(1) If the inspection was done on or after the effective date of this AD: Submit the report within 30 days after the inspection.

(2) If the inspection was done before the effective date of this AD: Submit the report within 30 days after the effective date of this AD.

Paperwork Reduction Act Burden Statement

(k) A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave., SW., Washington, DC 20591, Attn: Information Collection Clearance Officer, AES-200.

Alternative Methods of Compliance (AMOCs)

(l)(1) The Manager, Seattle ACO, FAA, has the authority to approve AMOCs for this AD, if requested using the procedures found in 14 CFR 39.19. Send information to ATTN: Berhane Alazar, Aerospace Engineer, Airframe Branch, ANM-120S, FAA, Seattle Aircraft Certification Office (ACO), 1601 Lind Avenue, SW., Renton, Washington 98057-3356; telephone (425) 917-6577; fax (425) 917-6590. Information may be e-mailed to: 9-ANM-Seattle-ACO-AMOC-Requests@faa.gov.

(2) To request a different method of compliance or a different compliance time for this AD, follow the procedures in 14 CFR 39.19. Before using any approved AMOC on any airplane to which the AMOC applies, notify your principal maintenance inspector (PMI) or principal avionics inspector (PAI), as appropriate, or lacking a principal inspector, your local Flight Standards District Office. The AMOC approval letter must specifically reference this AD.

(3) An AMOC that provides an acceptable level of safety may be used for any repair required by this AD if it is approved by the Boeing Commercial Airplanes Organization Designation Authorization (ODA) that has been authorized by the Manager, Seattle ACO to make those findings. For a repair method to be approved, the repair must meet the certification basis of the airplane, and the approval must specifically refer to this AD.

Material Incorporated by Reference

(m) You must use Boeing Special Attention Service Bulletin 767-57-0118, Revision 1, dated October 21, 2010, to do the actions required by this AD, unless the AD specifies otherwise.

(1) The Director of the Federal Register approved the incorporation by reference of this service information under 5 U.S.C. 552(a) and 1 CFR part 51.

(2) For service information identified in this AD, contact Boeing Commercial Airplanes, Attention: Data & Services Management, P.O. Box 3707, MC 2H-65, Seattle, Washington 98124-2207; telephone 206-544-5000, extension 1; fax 206-766-5680; e-mail me.boecom@boeing.com; Internet https://www.myboeingfleet.com.

(3) You may review copies of the service information at the FAA, Transport Airplane Directorate, 1601 Lind Avenue, SW., Renton, Washington. For information on the availability of this material at the FAA, call 425-227-1221.

(4) You may also review copies of the service information that is incorporated by reference at the National Archives and Records Administration (NARA). For information on the availability of this material at NARA, call 202-741-6030, or go to: http://www.archives.gov/federal_register/code_of_federal_regulations/ibr_locations.html.

Issued in Renton, Washington, on January 28, 2011.
Ali Bahrami,
Manager, Transport Airplane Directorate, Aircraft Certification Service.

[FR Doc. 2011-2515 Filed 2-14-11; 8:45 am]

BILLING CODE 4910-13-P